OFFICE OF PERSONNEL MANAGEMENT

[Docket ID: OPM-2023-0034]

Submission for Review: OPM Form 1655, Application for Senior Administrative Law Judge, and OPM Form 1655-A, Geographic Preference Statement for Senior Administrative Law Judge Applicant, OMB Control Number 3206-0248

AGENCY: Office of Personnel Management.

ACTION: 30-Day notice and request for comments.

SUMMARY: In accordance with the Paperwork Reduction Act of 1995, the Office of Personnel Management (OPM) is proposing revisions to a currently approved information collection, OMB Control Number, 3206-0248: OPM Form 1655, Application for Senior Administrative Law Judge, and OPM Form 1655-A, Geographic Preference Statement for Senior Administrative Law Judge Applicant.

DATES: Comments are encouraged and will be accepted until September 4, 2024.

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: For specific questions related to this information collection activities, please contact, Ms. Diane Hobbs, Administrative Law Judge Program Manager at Diane.Hobbs@opm.gov or (202) 606-3822.

SUPPLEMENTARY INFORMATION: OPM, in accordance with the Paperwork Reduction Act of 1995 (PRA) (44 U.S.C. 3506(c)(2)(A)), provides the public with an opportunity to comment on proposed, revised, and continuing collections of information. This helps the Agency assess the impact of its information collection requirements and minimize the public's reporting burden. It also helps the public understand the Agency's information collection requirements and provide the requested data in the desired format.

OPM is soliciting comments on the proposed information collection request (ICR) that is described below. The Agency is especially interested in public comment addressing the following issues: (1) whether this collection is necessary to the proper functions of the Agency; (2) whether this information will be processed and used in a timely manner; (3) the accuracy of the burden estimate; (4) ways in which the Agency may enhance the quality, utility, and clarity of the information to be collected; and (5) ways in which the Agency may minimize the burden of this collection on the respondents, including through the use of information technology. Written comments received in response to this notice will be considered public records.

Analysis

Agency: Administrative Law Judge Program Office, Office of Personnel Management.

Title: OPM 1655, Application for Senior Administrative Law Judge, and OPM 1655-A, Geographic Preference Statement for Senior Administrative Law Judge Applicant.

OMB Number: 3206-0248.

Affected Public: Federal Administrative Law Judge Retirees.

Number of Respondents: Approximately 150—OPM 1655/Approximately 200—OPM 1655-A.

Estimated Time per Respondent: Approximately 45 Minutes—OPM 1655/Approximately 25 Minutes—OPM 1655-A.

Total Burden Hours: Estimated 113 hours—OPM 1655/Estimated 84 hours—OPM 1655-A.

Office of Personnel Management.
Kayyonne Marston,
Federal Register Liaison.

[FR Doc. 2024-17238 Filed 8-2-24; 8:45 am]

BILLING CODE 6325-43-P